DEPARTMENT OF COMMERCE

Patent and Trademark Office

Submission for OMB Review; Comment Request; USPTO Websites Customer Satisfaction Surveys

The United States Patent and Trademark Office (USTPO) will submit to the Office of Management and Budget (OMB) for clearance the following proposal for collection of information under the provisions of the Paperwork Reduction Act.

Agency: United States Patent and Trademark Office, Commerce.

Title: USPTO Websites Customer Satisfaction Surveys.

OMB Control Number: 0651-New.

Form Number(s):

• None.

Type of Request: Regular.

Number of Respondents: 100,000 responses per year.

Average Hours per Response: 8 minutes per response.

Burden Hours: 13,333.33 hours annually.

Cost Burden: $0.

Needs and Uses: The United States Patent and Trademark Office (USPTO) wishes to conduct customer satisfaction surveys on its websites. This collection will allow for continued use of a data-driven and a statistically valid approach to understanding customer satisfaction with Agency websites. The objective is to help the USPTO become more citizen-centric and achieve higher levels of public trust and confidence. The USPTO will use the ForeSee surveys in order to collaborate effectively with the public and meet Administration mandates. These surveys will assist the Agency in its efforts to be open and collaborative.

Affected Public: Businesses or other for-profits; not-for-profit institutions.

Frequency: On occasion.

Respondent's Obligation: Voluntary.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-New” in the subject line of the message.

• Mail: Marcie Lovett, Records and Information Governance Division Director, Office of the Chief Technology Officer, United States Patent and Trademark Office, P.O. Box 1450, Alexandria, VA 22313-1450.

Written comments and recommendations for the proposed information collection should be sent on or before November 28, 2018 to Nicholas A. Fraser, OMB Desk Officer, via email to Nicholas_A._Fraser@omb.eop.gov, or by fax to 202-395-5167, marked to the attention of Nicholas A. Fraser.

Marcie Lovett,
Records and Information Governance Division Director, OCTO, United States Patent and Trademark Office.

[FR Doc. 2018-23553 Filed 10-26-18; 8:45 am]

BILLING CODE 3510-16-P